DEPARTMENT OF ENERGY

Federal Energy Regulatory Commission

Combined Notice of Filings #1

June 21, 2005.

Take notice that the Commission received the following electric rate filings.

Docket Numbers: ER05-1117-000.

Applicants: Northeast Utilities Company.

Description: Northeast Utilities Service Company, on behalf of the Connecticut Light and Power Company, Western Massachusetts Electric Company, Holyoke Power and Electric Company, Holyoke Water Power Company and Public Service Company of New Hampshire submits revised tariff sheets to Schedule 21-NU of the ISO New England tariff for Transmission, Markets and Services.

Filed Date: 06/15/2005.

Accession Number: 20050617-0001.

Comment Date: 5 p.m. eastern time on Wednesday, July 6, 2005.

Docket Numbers: ER05-1120-000.

Applicants: Virginia Electric and Power Company.

Description: Virginia Electric and Power Company, dba Dominion Virginia Power, submits a notice of cancellation and a revised cover sheet to cancel an executed Generator Interconnection and Operating Agreement with CPV Cunningham Creek, LLC.

Filed Date: 06/16/2005.

Accession Number: 20050620-0152.

Comment Date: 5 p.m. eastern time on Thursday, July 7, 2005.

Docket Numbers: ER05-1123-000.

Applicants: New York Independent System Operator, Inc.

Description: New York Independent System Operator, Inc. submits proposed tariff revisions to remedy real-time market price volatility attributable to forecasting uncertainties, rather than to actual market conditions.

Filed Date: 06/17/2005.

Accession Number: 20050621-0013.

Comment Date: 5 p.m. eastern time on Friday, June 28, 2005.

Docket Numbers: ER05-724-001.

Applicants: PJM Interconnection, L.L.C.

Description: PJM Interconnection L.L.C. submits an amended network integration transmission service agreement with Allegheny Power designated Service Agreement No. 1302, in compliance with the Commission's 5/17/05 order, to be effective 1/1/05.

Filed Date: 06/16/2005.

Accession Number: 20050620-0151.

Comment Date: 5 p.m. eastern time on Thursday, July 7, 2005.

Docket Numbers: ER05-929-001.

Applicants: Premcor Generating LLC.

Description: Premcor Generating LLC submits an amendment to its 5/2/2005 filing in ER05-929-000 to change the effective date of cancellation of Rate Schedule FERC No. 1, Original Sheets Nos. 1-3, from 4/6/05 to 5/3/05.

Filed Date: 06/16/2005.

Accession Number: 20050620-0153.

Comment Date: 5 p.m. eastern time on Thursday, July 7, 2005.

Docket Numbers: ER96-404-018.

Applicants: Questar Energy Trading Company.

Description: Questar Energy Trading Company, in compliance with the Commission's order issued 5/31/2005 in Docket No. ER98-3809-000, reports that there has been no change in the facts relied upon by FERC in its initial grant of market-based rate authority.

Filed Date: 06/16/2005.

Accession Number: 20050621-0003.

Comment Date: 5 p.m. eastern time on Thursday, July 7, 2005.

Docket Numbers: ER98-1643-008.

Applicants: Portland General Electric Company

Description: Portland General Electric Company, in compliance with the Commission's order issued 5/5/2005 in ER98-1643-006 and 007, submits a revision to its market-based rate tariff to include the change in status reporting requirement adopted by the Commission in Order 652.

Filed Date: 06/15/2005.

Accession Number: 20050620-0155.

Comment Date: 5 p.m. eastern time on Wednesday, July 6, 2005.

Docket Numbers: ER99-3168-003; ER00-1463-004.

Applicants: Astoria Generating Company, L.P.; Orion Power Midwest, LP.

Description: Astoria Generating Company LP and Orion Power Midwest, LP submit an updated market study in compliance with the FERC orders granting then authorization to sell energy and capacity at market-based rates.

Filed Date: 06/16/2005.

Accession Number: 20050620-0116.

Comment Date: 5 p.m. eastern time on Thursday, July 7, 2005.

Docket Numbers: ER04-1098-002.

Applicants: Rolling Hills Generating, L.L.C.

Description: Rolling Hills Generating, L.L.C. submits its refund report in compliance with the Commission's order issued 3/7/2005 in ER04-1098-000 and 001.

Filed Date: 06/06/2005.

Accession Number: 20050606-5038.

Comment Date: 5 p.m. eastern time on Monday, June 27, 2005.

Docket Numbers: ER97-851-016.

Applicants: H.Q. Energy Services (U.S.), Inc.

Description: H.Q. Energy Services (U.S.), Inc., in compliance with the Commission's order issued 5/26/2005 in Docket No. ER97-851-012, et al., submits its revised market-based rate tariff to include the change in status reporting requirement adopted in Order No. 652.

Filed Date: 06/15/2005.

Accession Number: 20050620-0154.

Comment Date: 5 p.m. eastern time on Wednesday, July 06, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3370 Filed 6-28-05; 8:45 am]

BILLING CODE 6717-01-P